DEPARTMENT OF ENERGY

Federal Energy Regulatory Commission

18 CFR Parts 260 and 284

[Docket Nos. RM07-10-000 and AD06-11-000]

Transparency Provisions of Section 23 of the Natural Gas Act; Transparency Provisions of the Energy Policy Act

August 2, 2007.

AGENCY: Federal Energy Regulatory Commission, DOE.

ACTION: Notice of Proposed Rulemaking: Extension of reply comment period.

SUMMARY: On April 19, 2007, the Federal Energy Regulatory Commission issued a Notice of Proposed Rulemaking (NOPR) concerning new rules to facilitate price transparency in markets for the sale and transportation of physical natural gas in interstate commerce. 72 FR 20791 (April 27, 2007). The Commission is extending the date for filing reply comments on the NOPR at the request of Enbridge Energy Company, Inc.

DATES: Reply comments are now due August 23, 2007.

ADDRESSES: You may submit comments identified by Docket No. RM07-10-000, by one of the following methods:

• Agency Web Site: http://ferc.gov. Follow the instructions for submitting comments via the eFiling link found in the Comment Procedures Section of the preamble.

• Mail: Commenters unable to file comments electronically must mail or hand deliver an original and 14 copies of their comments to the Federal Energy Regulatory Commission, Secretary of the Commission, 888 First Street, NE., Washington, DC 20426. Please refer to the Comment Procedures Section of Docket Nos. RM07-10-000 and AD06-11-000 in the preamble of the April 19, 2007 NOPR for additional information on how to file paper comments.

FOR FURTHER INFORMATION CONTACT: Stephen J. Harvey (Technical), 888 First Street NE., Washington, DC 20426, (202) 502-6372, Stephen.Harvey@ferc.gov. Eric Ciccoretti (Legal), 888 First Street NE., Washington, DC 20426, (202) 502-8493, Eric.Ciccoretti@ferc.gov.

SUPPLEMENTARY INFORMATION:

Notice of Extension of Time

August 2, 2007.

On July 11, 2007, Enbridge Energy Company, Inc. filed a motion for an extension of time to file reply comments to the Notice of Proposed Rulemaking (NOPR) issued April 19, 2007, in the above-referenced proceeding, 72 FR 20791 (Apr. 26, 2007), FERC. Stats. and Regs. ¶ 32,614 (2007). The motion states that additional time is needed in order to fully consider the discussions that took place at the Transparency workshop on July 24, 2007, so as to prepare more meaningful reply comments and to provide time to respond to the issues raised during the Workshop discussions and in various initial comments filed by the parties.

Upon consideration, notice is hereby given that an extension of time for filing reply comments on the NOPR is granted to and including August 23, 2007, thirty days after the Workshop.

Kimberly D. Bose,
Secretary.

[FR Doc. E7-15392 Filed 8-7-07; 8:45 am]

BILLING CODE 6717-01-P